NATIONAL AERONAUTICS AND SPACE ADMINISTRATION

[Notice: 01-097]

Notice of Agency Report Forms Under OMB Review

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). This information collection will help NASA to assess the services provided by its procurement offices.

DATES: All comments should be submitted on or before October 15, 2001.

ADDRESSES: All comments should be addressed to Mr. William Childs, Code HS, National Aeronautics and Space Administration, Washington, DC 20546-0001.

FOR FURTHER INFORMATION CONTACT: Ms. Nancy Kaplan, NASA Reports Officer, (202) 358-1372.

Title: NASA Procurement Customer Survey.

OMB Number: 2700-.

Type of review: New.

Need and Uses: The NASA Procurement Customer Survey will be used to determine whether NASA's procurement offices are providing an acceptable level of service to the business/educational community, and if not, which areas need improvement. Respondents will be business concerns and educational institutions that have been awarded a NASA procurement, or are interested in receiving such an award.

Affected Public: Business or other for-profit, Not-for-profit institutions.

Number of Respondents: 1000.

Responses Per Respondent: 1.

Annual Responses: 500.

Hours Per Request: .25.

Annual Burden Hours: 125.

Frequency of Report: On occasion.

David Nelson,
Deputy Chief Information Officer, Office of the Administrator.

[FR Doc. 01-20463 Filed 8-14-01; 8:45 am]

BILLING CODE 7510-01-P